DEPARTMENT OF HOUSING AND URBAN DEVELOPMENT

[Docket No. FR-4572-D-08]

Order of Succession

AGENCY: Office of the Assistant Secretary for Administration.

ACTION: Notice of Order of Succession.

SUMMARY: In this notice, the Deputy Secretary for the Department of Housing and Urban Development designates the Order of Succession for the Office of Administration. This Order of Succession supersedes the Order of Succession for the Assistant Secretary for Administration, published at 64 FR 61931 (November 15, 1999).

EFFECTIVE DATE: July 26, 2000.

FOR FURTHER INFORMATION CONTACT: John Opitz, Assistant General Counsel for Procurement and Administrative Law, Department of Housing and Urban Development, room 10180, 451 7th Street, SW, Washington, DC 20410, (202) 708-0622. (This is not a toll-free number.) This number may be accessed via TTY by calling the Federal Information Relay Service at 1-800-877-8339 (toll-free).

SUPPLEMENTARY INFORMATION: The Deputy Secretary of the Department of Housing and Urban Development is issuing this Order of Succession of officials authorized to perform the functions and duties of the Office of the Assistant Secretary for Administration when, by reason of absence, disability, or vacancy in office, the Assistant Secretary is not available to excise the powers or perform the duties of the office. This Order of Succession is subject to the provisions of the Vacancy Reform Act of 1998, 5 U.S.C. 3345-3349d. This publication supersedes the Order of Succession notice on November 15, 1999 at 64 FR 61931.

Accordingly, the Deputy Secretary designates the following Order of Succession:

Section A. Order of Succession

Subject to the provisions of the Vacancy Reform Act of 1998, during any period when, by reason of absence, disability, or vacancy in office, the Assistant Secretary for Administration is not available to exercise the powers or perform the duties of the Office of Assistant Secretary for Administration, the following officials within the Office of Administration are hereby designated to exercise the powers and perform the duties of the Office:

(1) General Deputy Assistant Secretary for Administration;

(2) Associate General Deputy Assistant Secretary for Administration;

(3) Associate Deputy Assistant Secretary for Technical Services;

(4) Deputy Assistant Secretary for Operations;

(5) Associate Deputy Assistant Secretary for Operations;

(6) Deputy Assistant Secretary for Technical Services.

These officials shall perform the functions and duties of the Office in the order specified herein, and no official shall serve unless all the other officials, whose position titles precede his/hers in this order, are unable to act by reason of absence, disability, or vacancy in office.

Section B. Authority Superseded

This Order of Succession supersedes the Order of Succession for the Assistant Secretary of Administration, published at 64 FR 61931 (November 15, 1999).

Authority: Section 7(d), Department of Housing and Urban Development Act, 42 U.S.C. Sec. 3535(d).

Dated: July 26, 2000.
Saul N. Ramirez, Jr.,
Deputy Secretary, Department of Housing and Urban Development.

[FR Doc. 00-21387 Filed 8-21-00; 8:45 am]

BILLING CODE 4210-01-M